DEPARTMENT OF TRANSPORTATION

Federal Highway Administration

Notice of Final Federal Agency Actions on the Stehekin Valley Road Improvement Project From the Stehekin River Corridor Implementation Plan: Chelan County, Washington

AGENCY: Federal Highway Administration (FHWA), Department of Transportation (DOT) and other Federal agencies.

ACTION: Notice of Limitations on Claims for Judicial Review of Actions by FHWA and other Federal agencies.

SUMMARY: This notice announces final environmental actions taken by the FHWA, the National Park Service (NPS), the United States Fish and Wildlife Service (USF&WS), and other Federal agencies that are final within the meaning of 23 U.S.C. § 139(l)(1). The actions relate to the Stehekin Valley Road Improvement project from the Stehekin River Corridor Implementation Plan in Chelan County, Washington. This action grants approval for the road improvement project element of the plan.

DATES: By this notice, the FHWA is advising the public of final agency actions subject to 23 U.S.C. 139(l)(1). A claim seeking judicial review of the Federal agency actions on the roadway project will be barred unless the claim is filed on or before March 28, 2014. If the Federal law that authorizes judicial review of a claim provides a time period of less than 150 days for filing such claim, then that shorter time period still applies.

FOR FURTHER INFORMATION CONTACT: Michelle Eraut, Acting Environmental Program Manager, FHWA, 610 East 5th Street, Vancouver, WA, Telephone: (360) 619-7967. For the NPS: Roy M. Zipp, Environmental Protection Specialist, North Cascades National Park, 810 State Route 20, Sedro-Wolley, WA 98284, Telephone: 360-854-7313. For the USF&WS, Greg Kurz, Central Washington Field Office, 215 Melody Lane, Suite 119, Wenatchee, WA 98801, Telephone: (509) 665-3508. The FHWA Stehekin Valley Road Improvement Project Record of Decision, NPS Stehekin River Corridor Implementation Plan Environmental Impact Statement (EIS) and Record of Decision (ROD), is available upon written request from the Federal Highway Administration at the address shown above. Comments or questions concerning this proposed action should be directed to the FHWA at the address provided above.

SUPPLEMENTARY INFORMATION: Notice is hereby given that the FHWA, has taken final agency action subject to 23 U.S.C. § 139(l)(1) by issuing approval for the following highway project in the State of Washington: Stehekin Valley Road Improvement Project. The project is a component of the Stehekin River Corridor Implementation Plan (Plan) in the Lake Chelan National Recreation Area for which the U.S. Department of Interior National Park Service issued a Record of Decision dated March 13, 2013. FHWA served as a cooperating agency in the development of the EIS, and issued a FHWA Record of Decision, dated September 27, 2013. FHWA-administered funds will be used for the project and FHWA will administer the construction contact. The project will realign 1.8 miles of the existing 10 mile alignment, moving this section outside of the Stehekin River's channel migration zone to reduce flooding by the river and, consequently, the threat to public safety and access and maintenance costs. Another 7.4 miles of the road will undergo minor improvements including resurfacing and culvert replacement within the existing roadway prism. In addition, a 1200-foot long connector road will be built to provide access between the realigned portion of the road and the existing alignment. The actions by the Federal agencies and the laws under which such actions were taken are described in the Record of Decision issued on September 27, 2013. The NPS EIS, NPS ROD, and the FHWA ROD, are available by contacting the FHWA at the address provided above. This notice applies to all Federal agency decisions as of the issuance date of this notice and all laws under which such actions were taken, including but not limited to:

1. General: National Environmental Policy Act (NEPA) [42 U.S.C 4321-4347]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303]; Section 6(f) of the Land and Water Conservation Fund Act (LWCF) [16 U.S.C. 460l-4—460l-11.].

4. Wildlife: Section 7 of the Endangered Species Act [16 U.S.C. 1531-1544]; Fish and Wildlife Coordination Act [16 U.S.C. 661-667 (e)]; Migratory Bird Treaty Act [16 U.S.C. 703-712].

5. Historic and Cultural Resources: Section 106 of the National Historic Preservation Act of 1966, as amended [16 U.S.C. 470(f) et seq.]; Archeological Resources Protection Act of 1977 [16 U.S.C. 470aa-mm]; Archeological and Historic Preservation Act [16 U.S.C. 469-469(c)]; Native American Grave Protection and Repatriation Act (NAGPRA) [25 U.S.C. 3001-3013].

6. Social and Economic: Title VI of the Civil Rights Act of 1964 [42 U.S.C. 2000(d)-2000(d)(1)]; American Indian Religious Freedom Act [42 U.S.C. 1996].

7. Wetlands and Water Resources: Clean Water Act [33 U.S.C. 1251-1376]; Safe Drinking Water Act (SDWA) [42 U.S.C. 300(f)-300(j-26)]; Rivers and Harbors Act of 1899 [33 U.S.C. 401-406]; Wild and Scenic Rivers Act [16 U.S.C. 1271-1287]; Wetlands Mitigation [23 U.S.C. 103(b)(6)(M) and 133(b)(11)].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites, E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued On: October 11, 2013.
Clara H. Conner,
Division Engineer, Vancouver, WA.

[FR Doc. 2013-24966 Filed 10-28-13; 8:45 am]

BILLING CODE 4910-22-P